DEPARTMENT OF COMMERCE

Bureau of Industry and Security

15 CFR Part 744

[Docket No. 181219999-8999-01]

RIN 0694-AH72

Addition of Certain Entities to the Entity List, Revision of an Entry on the Entity List, and Removal of an Entity From the Entity List

Correction

In rule document 2019-09945, appearing on pages 21233 through 21238, in the issue of Tuesday, May 14, 2019, make the following correction:

PART 744 [CORRECTED]

On page 21236, in the table labeled “Supplement No. 4 to Part 744—Entity List”, in the second column, in the third entry “Multi-Mart Electronics Technology Co, Ltd.,” in the second line, “S/F” should read “5/F”.

[FR Doc. C1-2019-09945 Filed 5-23-19; 8:45 am]

BILLING CODE 1301-00-D